DEPARTMENT OF ENERGY

Federal Energy Regulatory Commission

[Project No. 15313-000]

Lock 9 Hydro Partners, LLC; Notice of Preliminary Permit Application Accepted for Filing and Soliciting Comments, Motions To Intervene, and Competing Applications

On May 26, 2023, Lock 9 Hydro Partners, LLC filed an application for a preliminary permit, pursuant to section 4(f) of the Federal Power Act (FPA), proposing to study the feasibility of a hydropower project located on the Kentucky River, in Jessamine and Madison Counties, Kentucky. The sole purpose of a preliminary permit, if issued, is to grant the permit holder priority to file a license application during the permit term. A preliminary permit does not authorize the permit holder to perform any land-disturbing activities or otherwise enter upon lands or waters owned by others without the owners' express permission.

The proposed Valley View Hydroelectric Project would consist of the following: (1) an existing 242-foot-long, 35-foot-high concrete lock and dam; (2) an existing 18.9-mile-long, 343-acre reservoir having a total capacity of 6,550-acre-feet; (3) a proposed 28.33-foot-wide, 52-foot-long, 48.8-foot-high powerhouse built into the abandoned lock containing six Voith Stream Diver submersible turbine/generating units for a total installed capacity of 3.012 megawatts; (4) a proposed 20-foot-wide, 42-foot- long control building on the adjacent shore; and (5) a proposed 2,000-foot-long, 12.47 kilovolt transmission line which interconnects to a Blue Grass Energy Cooperative distribution line. The project is estimated to generate an average of 14,000 megawatt- hours annually. The existing lock and dam are owned by the Kentucky River Authority.

Applicant Contact: David Brown Kinloch, Appalachian Hydro Associates, 414 S Wenzel Street, Louisville, KY 40204; Phone: (502) 589-0975, or by email at kyhydropower@gmail.com.

FERC Contact: Prabharanjani Madduri; phone: (202) 502-8017, or by email at prabharanjani.madduri@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502 6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15313-000.

More information about this project, including a copy of the application, can be viewed or printed on the “eLibrary” link of the Commission's website at https://elibrary.ferc.gov/eLibrary/search. Enter the docket number (P-15313) in the docket number field to access the document. For assistance, contact FERC Online Support.

Dated: July 18, 2023.
Debbie-Anne A. Reese,
Deputy Secretary.

[FR Doc. 2023-15603 Filed 7-21-23; 8:45 am]

BILLING CODE 6717-01-P